DEPARTMENT OF COMMERCE

National Oceanic and Atmospheric Administration

50 CFR Part 300

[Docket No. 240730-0208]

RIN 0648-BM87

International Fisheries; Western and Central Pacific Fisheries for Highly Migratory Species; Changes to Bigeye Tuna Catch Limits in Longline Fisheries

AGENCY: National Marine Fisheries Service (NMFS), National Oceanic and Atmospheric Administration (NOAA), Commerce.

ACTION: Interim final rule; request for comments.

SUMMARY: NMFS seeks comments on this interim final rule issued under authority of the Western and Central Pacific Fisheries Convention Implementation Act (WCPFC Implementation Act) that implements a recent decision of the Commission for the Conservation and Management of Highly Migratory Fish Stocks in the western and central Pacific Ocean (WCPFC or Commission) increasing the WCPFC bigeye tuna catch limit for U.S. longline fishing vessels from 3,554 metric tons (mt) to 6,554 mt. This action is necessary to satisfy the obligations of the United States as a member of the Commission.

DATES: This interim final rule is effective on August 6, 2024. Comments on the interim final rule must be submitted in writing by September 5, 2024.

ADDRESSES: You may submit comments on this document, identified by NOAA-NMFS-2024-0085, by any of the following methods:

• Electronic Submission: Submit all electronic public comments via the Federal e-Rulemaking Portal. Visit https://www.regulations.gov and type NOAA-NMFS-2024-0085 in the Search box. Click on the “Comment” icon, complete the required fields, and enter or attach your comments.

• Mail: Submit written comments to Sarah Malloy, Deputy Regional Administrator, NMFS, Pacific Islands Regional Office (PIRO), 1845 Wasp Blvd., Building 176, Honolulu, HI 96818.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Copies of the Regulatory Impact Review and the Supplemental Environmental Assessment are available at https://www.regulations.gov or may be obtained from Sarah Malloy, Deputy Regional Administrator, NMFS PIRO (see address above).

FOR FURTHER INFORMATION CONTACT: Rini Ghosh, NMFS PIRO, 808-725-5033.

SUPPLEMENTARY INFORMATION:

Background on the Convention

The objective of the Convention is to ensure, through effective management, the long-term conservation and sustainable use of highly migratory species (HMS) in the western and central Pacific Ocean (WCPO). To accomplish this objective, the Convention established the Commission, which includes members, cooperating non-members, and participating territories (collectively referred to here as “members”). The United States is a member. American Samoa, Guam, and the Commonwealth of the Northern Mariana Islands (CNMI) are participating territories.

As a contracting party to the Convention and a member of the Commission, the United States implements applicable conservation and management measures and other decisions adopted by the Commission. The WCPFC Implementation Act (16 U.S.C. 6901 et seq.), authorizes the Secretary of Commerce, in consultation with the Secretary of State and the Secretary of the Department in which the United States Coast Guard is operating (currently the Department of Homeland Security), to promulgate such regulations as may be necessary to carry out the obligations of the United States under the Convention, including the decisions of the Commission. The WCPFC Implementation Act further provides that the Secretary of Commerce shall ensure consistency, to the extent practicable, of fishery management programs administered under the WCPFC Implementation Act and the Magnuson-Stevens Fishery Conservation and Management Act (16 U.S.C. 1801 et seq.), as well as other specific laws (see 16 U.S.C. 6905(b)). The Secretary of Commerce has delegated the authority to promulgate regulations under the WCPFC Implementation Act to NMFS. A map showing the boundaries of the area of application of the Convention (Convention Area), which comprises the majority of the WCPO, can be found on the WCPFC website at: https://www.wcpfc.int/doc/convention-area-map.

Background on the WCPFC Decision

This interim final rule would implement specific provisions of Conservation and Management Measure (CMM) 2023-01, “Conservation and Management Measure for Bigeye, Yellowfin, and Skipjack Tuna in the Western and Central Pacific Ocean.” The Commission adopted CMM 2023-01 at its twentieth regular annual session, in December 2023, and it went into effect in February 2024. The provisions of CMM 2023-01 are described in more detail below.

CMM 2023-01 is the latest in a series of CMMs devoted to the conservation and management of tropical tuna stocks, particularly stocks of bigeye tuna (Thunnus obesus), yellowfin tuna (Thunnus albacares), and skipjack tuna (Katsuwonus pelamis). The stated purpose of CMM 2023-01 is to support fisheries for skipjack tuna, bigeye tuna, and yellowfin tuna in the Convention Area that benefit WCPFC members and their communities, and to do so in a way that is fair to all WCPFC members and addresses the special requirements of developing states and participating territories. CMM 2023-01's provisions are based on specific objectives for each of the three tropical tuna stocks.

Many of the provisions of CMM 2023-01 have already been implemented by NMFS or will be implemented in separate rulemakings. This interim final rule implements the numerical change to the longline bigeye tuna catch limit for the United States.

Under NMFS regulations at 50 CFR 300.224(a), the existing longline bigeye tuna catch limit for the United States is 3,554 mt per calendar year. The limit does not apply to (1) catch landed in the U.S. participating territories to the Commission (American Samoa, Guam, or CNMI); (2) catch made by vessels with “dual permits” (i.e., vessels with both Hawai'i Longline Limit Access and American Samoa Limited Access permits) outside of the U.S. EEZ surrounding the Hawai'ian Archipelago; and (3) catch made by vessels operating under specified fishing agreements with the U.S. participating territories under 50 CFR 665.819(c), which may not exceed 3,000 mt (88 FR 39201, June 15, 2023).

Table 3 in CMM 2023-01 establishes a 6,554 mt longline bigeye tuna catch limit for the United States per calendar year. CMM 2023-01 also does not include the language of paragraph 9 of CMM 2021-01, which provided for attribution of catch to U.S. participating territories for vessels operating under agreements with the U.S. participating territories. Thus, the language in CMM 2023-01 no longer authorizes an exemption from the limit for catch by vessels operating under specified fishing agreements with U.S. participating territories.

Under this interim final rule, the limit at 50 CFR 300.224(a) will change from 3,554 mt to 6,554 mt. The limit of 6,554 mt will remain effective until replaced. No other changes to the regulations at 50 CFR 300.224 would be made at this time. As noted above, Table 3 of CMM 2023-01 expressly prohibits attribution of catch of U.S. longline vessels operating under agreements to the U.S. participating territories. Accordingly, approval of specified fishing agreements under 50 CFR 300.224(d) is no longer authorized. NMFS will update the regulatory provision at § 300.224(d) as part of a future rulemaking.

Paragraph 38 of CMM 2023-01 continues the provision of requiring any overages of limits to be deducted from the following year's limit.

CMM 2023-01 is in effect until February 15, 2027. However, as has been NMFS's practice, the elements of the interim final rule will remain in effect until they are replaced or amended, to avoid a lapse in the management of the fisheries.

The Action

The Commission-adopted longline bigeye tuna catch limit for the United States for 2024 is 6,554 mt. Thus, NMFS is implementing a calendar year catch limit of 6,554 mt that would remain effective until replaced.

The calendar year longline bigeye tuna catch limit will apply to U.S-flagged longline vessels operating as part of the U.S. longline fisheries. The limit will not apply to catch landed in the U.S. territories of American Samoa, CNMI, or Guam or catch made by vessels with dual permits outside of the U.S. EEZ surrounding Hawaii.

Consistent with the basis for the limits prescribed in CMM 2023-01 and with regulations issued by NMFS to implement bigeye tuna catch limits in U.S. longline fisheries as described below, the catch limit is measured in terms of retained catches—that is, bigeye tuna that are caught by longline gear and retained on board the vessel.

Existing regulations at 50 CFR 300.224 regarding announcement of a fishery closure and prohibitions during a fishery closure will remain in place under this proposed action.

Classification

The Administrator, Pacific Islands Region, NMFS, has determined that this interim final rule is consistent with the WCPFC Implementation Act and other applicable laws, subject to further consideration after public comment.

Administrative Procedure Act

There is good cause under 5 U.S.C. 553(b)(B) to waive prior notice and the opportunity for public comment on the interim final rule, because prior notice and the opportunity for public comment would be contrary to the public interest. NMFS anticipates the currently codified 3,554 mt longline bigeye tuna catch limit to be reached imminently. If the limit is not revised before it is reached, regulations require the fishery to close, which would be contrary to the public interest because the fishery would close under a limit that is no longer consistent with applicable law (CMM 2023-01). Prior notice and comment is also unnecessary because stakeholders and industry groups were involved with the development of this action as active participants in WCPFC negotiations leading to the adoption of CMM 2023-01. Nevertheless, NMFS will consider and respond to public comments received on the interim final rule and will accordingly make any appropriate revisions.

Consistent with 5 U.S.C. 553(d)(1), this interim final rule will become effective immediately upon publication because it is a substantive rule which relieves a regulatory restriction (i.e., modifies the bigeye tuna catch limit from 3,554 mt to 6,554 mt).

Coastal Zone Management Act (CZMA)

NMFS determined that this action is consistent to the maximum extent practicable with the enforceable policies of the approved coastal management program of American Samoa, the CNMI, Guam, and the State of Hawai'i. Determinations to Hawai'i and each of the territories were submitted on June 6, 2024, for review by the responsible State and territorial agencies under section 307 of the CZMA.

Executive Order 12866

This interim final rule has been determined to be not significant for purposes of Executive Order 12866.

Regulatory Flexibility Act

Because prior notice and opportunity for public comment are not required for the interim final rule by 5 U.S.C. 553, or any other law, the analytical requirements of the Regulatory Flexibility Act, 5 U.S.C. 601 et seq., are inapplicable. As stated above, there is good cause under 5 U.S.C. 553(b)(B) to waive prior notice and the opportunity for public comment on the interim final rule, because prior notice and the opportunity for public comment would be contrary to the public interest. Therefore, no regulatory flexibility analysis was required and none has been prepared.

Paperwork Reduction Act

This interim final rule contains no information collection requirements under the Paperwork Reduction Act of 1995.

List of Subjects in 50 CFR Part 300

Administrative practice and procedure, Fish, Fisheries, Fishing, Marine resources, Reporting and recordkeeping requirements, Treaties.

Dated: July 30, 2024.
Samuel D. Rauch III,
Deputy Assistant Administrator for Regulatory Programs, National Marine Fisheries Service.

For the reasons set out in the preamble, NMFS amends 50 CFR part 300, subpart O, as follows:

PART 300—INTERNATIONAL FISHERIES REGULATIONS

Subpart O—Western and Central Pacific Fisheries for Highly Migratory Species

1. The authority citation for 50 CFR part 300, subpart O, continues to read as follows:

Authority: 16 U.S.C. 6901 et seq.

2. In § 300.224, revise paragraph (a)(1) to read as follows:

§ 300.224 Longline fishing restrictions.

* * * * *

(a) * * *

(1) There is a limit of 6,554 metric tons of bigeye tuna per calendar year that may be captured in the Convention Area by longline gear and retained on board by fishing vessels of the United States.

* * * * *

[FR Doc. 2024-17295 Filed 8-5-24; 8:45 am]

BILLING CODE 3510-22-P